Title 3—

The President

Proclamation 8375 of May 8, 2009

Military Spouse Day, 2009

By the President of the United States of America

A Proclamation

Military spouses share the sacrifices of service with our Nation's men and women in uniform. As members of the Armed Forces serve in the United States and across the world, military spouses also serve our Nation. When a servicemember goes to war, we know their spouse also shares in that sacrifice. I am inspired by their commitment to family and our Nation, and on Military Spouse Day, we honor these individuals for their contributions.

Wives and husbands of servicemembers display an uncommon courage and strength as they steadfastly support their spouses during long and arduous deployments. While they endure separations that are filled with worry and anxiety, they face unique stresses. Foremost is the concern about the safety and well-being of deployed loved ones, but there are many other challenges. From managing household finances to comforting children impacted by a military parent's absence, military spouses take on the burdens of maintaining families largely on their own. This task is complicated even more as spouses work to maintain careers and a sense of community while moving to new duty stations around the country and the world.

Despite these hardships, military spouses are an inexhaustible source of strength for our military families and donate their time generously to local communities. Military spouses offer the love and encouragement that help servicemembers endure the challenges of serving our Nation. Military spouses support one another as friends and mentors. They serve in family readiness groups to keep fellow spouses informed and to provide mutual support. They contribute as volunteers to improve neighborhoods, military installations, and communities. These contributions strengthen both our Nation's character and its security.

All Americans should express appreciation for military spouses and let them know they are not alone. To help those who need it, friends, co-workers, and neighbors can offer to help with the burden of daily tasks and thus give military spouses more time for themselves and their families. To assist spouses who are coping with the absence of a loved one, individuals can listen and offer their counsel. Americans can also volunteer through the many organizations that provide assistance to military families.

Our Nation maintains a sacred trust with every individual who serves. My Administration is committed to showing our Nation's gratitude for them by honoring our obligations to their families.

NOW, THEREFORE, I, BARACK OBAMA, President of the United States of America, by virtue of the authority vested in me by the Constitution and laws of the United States, do hereby proclaim May 8, 2009, as Military Spouse Day. I call upon the people of the United States to honor military spouses with appropriate ceremonies and activities today and in the future.

IN WITNESS WHEREOF, I have hereunto set my hand this eighth day of May, in the year of our Lord two thousand nine, and of the Independence of the United States of America the two hundred and thirty-third.

[FR Doc. E9-11313

Filed 5-12-09; 8:45 am]

Billing code 3195-W9-P